CIVIL RIGHTS COMMISSION

Sunshine Act Meeting Notice

AGENCY: United States Commission on Civil Rights.

ACTION: Notice of Commission Telephonic Business Meeting.

DATES: Monday, May 6, 2019, at 1:30 p.m. ET.

ADDRESSES: Meeting to take place by telephone.

FOR FURTHER INFORMATION CONTACT: Brian Walch, (202) 376-8371, publicaffairs@usccr.gov.

SUPPLEMENTARY INFORMATION: This business meeting is open to the public by telephone only. Participant access instructions: public call-in line (listen-only): dial 1-800-682-9934; call ID # 796-3908. You can stay abreast of updates at www.usccr.gov and on Twitter and Facebook.

Meeting Agenda

I. Approval of Agenda.

II. Discussion of report update following April 12, 2019 public comment session on condition of immigration detention centers and treatment of immigrants in detention.

III. Adjourn Meeting.

Dated: April 29, 2019.
Brian Walch,
Director, Communications and Public Engagement.

[FR Doc. 2019-09009 Filed 4-29-19; 4:15 pm]

BILLING CODE 6335-01-P